DEPARTMENT OF THE INTERIOR

National Park Service

[NPS-WASO-NRNHL-20140; PPWOCRADI0, PCU00RP14.R50000]

National Register of Historic Places; Notification of Pending Nominations and Related Actions

AGENCY: National Park Service, Interior.

ACTION: Notice.

SUMMARY: The National Park Service is soliciting comments on the significance of properties nominated before January 9, 2016, for listing or related actions in the National Register of Historic Places.

DATES: Comments should be submitted by February 24, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before January 9, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Cochise County

Warren Historic District, Roughly bounded by Cole & 18th Sts., Yuma Trail, Minder, Rupp & Knickerbocker Aves., Warren, 16000023

Pima County

Wilson, Betty-Jean, House, (Residential Architecture of Josias Joesler in Tucson, Arizona, 1927-1956 MPS) 2322 E. Calle Lustre, Tucson, 16000024

COLORADO

Otero County

Santa Fe Trail Mountain Route Trail Segments—Bloom Vicinity, (Santa Fe Trail MPS) Address Restricted, Bloom, 16000025

Santa Fe Trail Mountain Route Trail Segments—Timpas Vicinity, (Santa Fe Trail MPS) Address Restricted, Timpas, 16000026

DISTRICT OF COLUMBIA

District of Columbia

Saint James Mutual Homes, (Apartment Buildings in Washington, DC, MPS) 201-217 P, 1410-1414 3rd, 220-215-229 O Sts. SW., 1411-1415 James Creek Pkwy. SW., Washington, 16000027

Sedgwick Gardens, (Apartment Buildings in Washington, DC, MPS) 3726 Connecticut Ave. NW., Washington, 16000028

HAWAII

Honolulu County

Ward, George R., House, 2438 Ferdinand Ave., Honolulu, 16000029

MISSOURI

Jackson County

Plaza Towers, (Working-Class and Middle-Income Apartment Buildings in Kansas City, Missouri MPS) 209 Emanuel Cleaver II Blvd., Kansas City, 16000030

St. Louis County

Fort Bellefontaine, Address Restricted, Blackjack, 16000031

St. Louis Independent City

St. Louis Post-Dispatch Rotogravure Printing Plant, 4340-50 Duncan Ave., St. Louis (Independent City), 16000032

MONTANA

Lewis and Clark County

Montana State Capitol Campus Historic District, Bounded by E. Broadway & N. Carson Sts., E. 8th & N. Montana Aves., Helena, 16000033

NEW YORK

Jefferson County

Norton—Burnham House, 8748 NY 178, Henderson, 16000034

Kings County

B and B Carousel, 1615 Boardwalk, Brooklyn, 16000035

New York County

Master Building, 310 Riverside Dr., New York, 16000036

Oneida County

Whiffen—Ribyat Building, 327-331 Bleecker St., Utica, 16000037

Queens County

1964-1965 New York World's Fair Carousel, 54th & 56th Aves. on 111th St., Queens, 16000038

Schoharie County

Lawyer, Johannes Jr., House, 194 Main St., Schoharie, 16000039

OHIO

Clark County

Springfield Metallic Casket Company, 105 N. Center St., Springfield, 16000040

Cuyahoga County

Greenwood Farm, 264 Richmond Rd., Richmond Heights, 16000041

Mueller Electric Company Building, 1587 E. 31st St., Cleveland, 16000042

Hamilton County

Baldwin Piano Company Building, 655 Eden Park Dr., Cincinnati, 16000043

Montgomery County

Grant—Deneau Tower, 40 W. 4th St., Dayton, 16000044

Summit County

Falls Stamping and Welding Building, 1701 S. Front St., Cuyahoga Falls, 16000045

SOUTH CAROLINA

Aiken County

Hickman Mill Historic District, Bounded by Horse Cr., Marshall, Canal & Hard Sts., Graniteville, 16000046

SOUTH DAKOTA

Custer County

Archeological Site 39CU2565, (Prehistoric Rock Art of South Dakota MPS) Address Restricted, Dewey, 16000047

Archeological Site 39CU3178, (Prehistoric Rock Art of South Dakota MPS) Address Restricted, Dewey, 16000048

Archeological Site 39CU3393, (Prehistoric Rock Art of South Dakota MPS) Address Restricted, Dewey, 16000049

Archeological Site 39CU4164, (Prehistoric Rock Art of South Dakota MPS) Address Restricted, Dewey, 16000050

Fall River County

Archeological Site 39FA2530, (Prehistoric Rock Art of South Dakota MPS) Address Restricted, Edgemont, 16000051

Archeological Site 39FA2531, (Prehistoric Rock Art of South Dakota MPS) Address Restricted, Edgemont, 16000052

WYOMING

Johnson County

Spear-O-Wigwam Ranch, Jct. of Coffeen Park & Spear-O-Wigwam Rds., Story, 16000053

Authority: 60.13 of 36 CFR part 60

Dated: January 15, 2016.
J. Paul Loether,
Chief, National Register of Historic Places/National Historic Landmarks Program.

[FR Doc. 2016-02478 Filed 2-8-16; 8:45 am]

BILLING CODE 4312-51-P